DEPARTMENT OF AGRICULTURE

Forest Service

Notice of Proposed New Fee Site

AGENCY: Hiawatha National Forest, USDA Forest Service.

ACTION: Notice of proposed new fees and fee increase.

SUMMARY: The Hiawatha National Forest is proposing new camping fees for the Grand Island National Recreation Area. The following sites are included in the new fee proposal: Channel Marker, Loon Call, Bermuda, Little Dune 1, Little Dune 2, Little Duck, and Driftwood campsites would be $10.00 per night. Gamefence, Hardwood, Hemlock, and Duck Lake campsites would be $8.00 per night. The proposed fee for Murray Bay and Juniper Flats Group Sites would be $30.00 per night. Fees are being proposed based on the level of amenities and services provided, cost of operations and maintenance, and market assessment of each site. Fees are necessary to ensure continued operation, maintenance, and improvements of these facilities. Final fee adjustments will be determined based upon further analysis and public comment.

DATES: Comments will be accepted through September 1st, 2017. New fees would begin May 2018.

ADDRESS: Cid Morgan, Forest Supervisor, Hiawatha National Forest, 820 Rains Drive Gladstone, Michigan 49837.

FOR FURTHER INFORMATION CONTACT: Paul Holeva, Program Manager Recreation and Lands, 906-428-5889. Information about the proposed fee changes can be also found on the Hiawatha National Forest Web site: https://www.fs.usda.gov/hiawatha.

SUPPLEMENTARY INFORMATION: The Federal Recreation Lands Enhancement Act (Title VII, Pub. L. 108-447) directs the Secretary of Agriculture to publish a six month advance notice in the Federal Register whenever new recreation fee areas are established. Once public involvement is complete, these new fees will be reviewed by the Recreation Resource Advisory Committee prior to final decision and implementation.

Grand Island National Recreation Area is a 13,500 acre island located in Lake Superior about .25 miles from the mainland. All campsites included in this proposal are located on the southern half of Grand Island National Recreation Area and are accessible to the public via ferry service or private boat. Campsites are currently opened seasonally and provide a limited variety of amenities. Revenue generated by the proposed fee increases would be used to leverage federal funding, grants, and partnership contributions to make the following investments and improvements: Initiate trash service at boat access points; installation of bear-proof trash receptacles; upgrade picnic tables, grills, and fire rings; provide better signage; new heritage programs and interpretation materials; implementation of new permit system for better reservation tracking, and potentially a more environmentally sustainable recreation infrastructure, such as hammock stands, etc.

Dated: July 10, 2017.
Glenn Casamassa,
Associate Deputy Chief, National Forest System .

[FR Doc. 2017-16310 Filed 8-2-17; 8:45 am]

BILLING CODE 3411-15-P